ENVIRONMENTAL PROTECTION AGENCY

40 CFR Part 52

[EPA-R05-OAR-2014-0504; FRL-9921-44-Region 5]

Approval and Promulgation of Air Quality Implementation Plans; Illinois; VOM Definition

AGENCY: Environmental Protection Agency (EPA).

ACTION: Direct final rule.

SUMMARY: The Environmental Protection Agency (EPA) is approving a request submitted by the Illinois Environmental Protection Agency (Illinois EPA) on June 10, 2014, to revise the Illinois State Implementation Plan (SIP). The submission amends the Illinois Administrative Code (IAC) by updating the definition of “volatile organic material (VOM) or volatile organic compound (VOC)” to add five compounds to the list of exempted compounds. These revisions are based on EPA rulemakings in 2013 which added these compounds to the list of chemical compounds that are excluded from the Federal definition of VOC because, in their intended uses, they make negligible contributions to tropospheric ozone formation.

DATES: This direct final rule will be effective April 21, 2015, unless EPA receives adverse comments by March 23, 2015. If adverse comments are received, EPA will publish a timely withdrawal of the direct final rule in the Federal Register informing the public that the rule will not take effect.

ADDRESSES: Submit your comments, identified by Docket ID No. EPA-R05-OAR-2014-0504, by one of the following methods:

1. www.regulations.gov: Follow the on-line instructions for submitting comments.

2. Email: Aburano.Douglas@epa.gov.

3. Fax: (312)408-2279

4. Mail: Douglas Aburano, Chief, Attainment Planning and Maintenance Section, Air Programs Branch (AR-18J), U.S. Environmental Protection Agency, 77 West Jackson Boulevard, Chicago, Illinois 60604.

5. Hand Delivery: Douglas Aburano, Chief, Attainment Planning and Maintenance Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2014-0504. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Douglas Aburano, Section Chief at (312) 353-6960 before visiting the Region 5 office.

FOR FURTHER INFORMATION CONTACT: Douglas Aburano, Section Chief, Attainment Planning and Maintenance Section, Air Programs Branch (AR-18J), Environmental Protection Agency, Region 5, 77 West Jackson Boulevard, Chicago, Illinois 60604, (312) 353-6960, Aburano.Douglas@epa.gov.

SUPPLEMENTARY INFORMATION: Throughout this document whenever “we,” “us,” or “our” is used, we mean EPA. This supplementary information section is arranged as follows:

I. What is the background for this action?

A. When did the State submit the SIP revision to EPA?

B. Did Illinois hold public hearings on this SIP revision?

II. What is EPA approving?

III. What is EPA's analysis of the SIP revision?

IV. What action is the EPA taking?

V. Statutory and Executive Order Reviews

I. What is the background for this action?

A. When did the State submit the SIP revision to EPA?

The Illinois EPA submitted a revision to the Illinois SIP to EPA for approval on June 10, 2014. The SIP revision updates the definition of VOM or VOC at 35 IAC Part 211, Subpart B, Section 211.7150(a).

B. Did Illinois hold public hearings on this SIP revision?

The Illinois Pollution Control Board held a public hearing on the proposed SIP revision on October 31, 2013. The Board received no comments.

II. What is EPA approving?

EPA is approving an Illinois SIP revision that updates the definition of VOM or VOC at 35 IAC Part 211, Subpart B, Section 211.7150(a) to add (difluoromethoxy) (difluoro)methane (CHF2OCHF2 or HFE-134), bis(difluoromethoxy) (difluoro)methane (CHF2OCF2OCHF2 or HFE-236cal2), 1-(difluoromethoxy)-2-[(difluoromethoxy) ((difluoro)methoxy]-1,1,2,2-tetrafluoroethane (CHF2OCF2OCF2CF2OCHF2 or HFE-43-10pccc), 1,2-bis(difluoromethoxy)-1,1,2,2-tetrafluoroethane (CHF2OCF2CF2OCHF2 or HFE-338pcc13), and trans 1-chloro-3,3,3-trifluoroprop-1-ene (CF3CHCHCl) to the list of excluded compounds at 35 IAC 211.7150(a). Illinois took this action based on EPA's 2013 rulemakings in which EPA determined these compounds have a negligible contribution to tropospheric ozone formation and thus should be excluded from the definition of VOC codified at 40 CFR 51.100(s). (See 78 FR 9823 (February 12, 2013) and 78 FR 53029 (August 28, 2013)). This action also approves minor administrative changes in alphabetization of compound names and correction of compound condensed structural formulas to 35 IAC 211.7150(a) that refer to compounds previously approved as excluded from the definition of VOM in the Illinois SIP.

III. What is EPA's analysis of the SIP revision?

In 2005, EPA received a petition asking EPA to exempt HCF2OCF2H (HFE-134), HCF2OCF2OCF2H (HFE-236cal2), HCF2OCF2CF2OCF2H (HFE-338pcc13), HCF2OCF2OCF2CF2OCF2H (H-Galden 1040x or H-Galden ZT 130 (or 150 or 180)) from the definition of VOC.¹ Based on the level of reactivity of these chemical compounds, EPA concluded that these compounds make negligible contributions to tropospheric ozone formation (78 FR 9823, February 12, 2013). Therefore on February 12, 2013, EPA amended 40 CFR 51.100(s)(1) to exclude these compounds from the definition of VOC for purposes of preparing SIPs to attain the national ambient air quality standard for ozone under title I of the Clean Air Act (78 FR 9823). EPA's action became effective March 14, 2013. Illinois EPA's SIP revision is consistent with EPA's action amending the definition of VOC at 40 CFR 51.100(s).

¹ Note that EPA uses compound condensed structural formulas that differ from those used by Illinois EPA. Through comparison of HFE numbers and chemical formulas as used by the American Chemical Society, we have determined that EPA and Illinois EPA are referring to the same compounds for the purposes of this rule.

In 2011, EPA received a petition asking EPA to exempt trans 1-chloro-3,3,3-trifluoroprop-1-ene from the definition of VOC. Based on the level of reactivity of this chemical compound, EPA concluded that this compound makes a negligible contribution to tropospheric ozone formation (78 FR 53029, August 28, 2013). Therefore on August 28, 2013, EPA amended 40 CFR 51.100(s)(1) to exclude this compound from the definition of VOC for purposes of preparing SIPs to attain the national ambient air quality standard for ozone under title I of the Clean Air Act (78 FR 53029). EPA's action became effective September 27, 2013. Illinois EPA's SIP revision is consistent with EPA's action amending the definition of VOC at 40 CFR 51.100(s).

IV. What action is EPA taking?

EPA is approving a revision to the Illinois SIP which is consistent with EPA's 2013 actions revising the definition of VOC. The Illinois SIP revision adds (difluoromethoxy) (difluoro)methane (CHF2OCHF2 or HFE-134), bis(difluoromethoxy) (difluoro)methane (CHF2OCF2OCHF2 or HFE-236cal2), 1-(difluoromethoxy)-2-[(difluoromethoxy) ((difluoro)methoxy]-1,1,2,2-tetrafluoroethane (CHF2OCF2OCF2CF2OCHF2 or HFE-43-10pccc), 1,2-bis(difluoromethoxy)-1,1,2,2-tetrafluoroethane (CHF2OCF2CF2OCHF2 or HFE-338pcc13), and trans 1-chloro-3,3,3-trifluoroprop-1-ene (CF3CHCHCl) to the list of chemical compounds considered exempt from the definition of VOM or VOC at 35 IAC 211.7150(a).

We are publishing this action without prior proposal because we view this as a noncontroversial amendment and anticipate no adverse comments. However, in the proposed rules section of this Federal Register publication, we are publishing a separate document that will serve as the proposal to approve the state plan if relevant adverse written comments are filed. This rule will be effective April 21, 2015 without further notice unless we receive relevant adverse written comments by March 23, 2015. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective April 21, 2015.

V. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

This rule is not approved to apply on any Indian reservation land or in any other area where EPA or an Indian tribe has demonstrated that a tribe has jurisdiction. In those areas of Indian country, the rule does not have tribal implications as specified by Executive Order 13175, nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 21, 2015. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: December 30, 2014.
Susan Hedman,
Regional Administrator, Region 5.

40 CFR part 52 is amended as follows:

PART 52—APPROVAL AND PROMULGATION OF IMPLEMENTATION PLANS

1. The authority citation for part 52 continues to read as follows:

Authority: 42 U.S.C. 7401 et seq.

2. Section 52.720 is amended by adding paragraph (c)(202) to read as follows:

§ 52.720 Identification of plan.

* * * * *

(c) * * *

(202) On June 10, 2014, Illinois submitted revised regulations that are consistent with 40 CFR 51.100(s)(1). The compounds (difluoromethoxy) (difluoro)methane (CHF2OCHF2 or HFE-134), bis(difluoromethoxy) (difluoro)methane (CHF2OCF2OCHF2 or HFE-236cal2), 1-(difluoromethoxy)-2-[(difluoromethoxy) ((difluoro)methoxy]-1,1,2,2-tetrafluoroethane (CHF2OCF2OCF2CF2OCHF2 or HFE-43-10pccc), 1,2-bis(difluoromethoxy)-1,1,2,2-tetrafluoroethane (CHF2OCF2CF2OCHF2 or HFE-338pcc13), and trans 1-chloro-3,3,3-trifluoroprop-1-ene (CF3CHCHCl) were added to the list of negligibly reactive compounds excluded from the definition of “Volatile Organic Material (VOM)” or “Volatile Organic Compound (VOC)” at 35 IAC 211.7150(a).

(i) Incorporation by reference.

Illinois Administrative Code Title 35: Environmental Protection; Subtitle B: Air Pollution; Chapter I: Pollution Control Board; Subchapter c: Emission Standards and Limitations for Stationary Sources; Part 211: Definitions and General Provisions; Subpart B: Definitions; Section 211.7150: Volatile Organic Material (VOM) or Volatile Organic Compound (VOC), effective November 27, 2013.

[FR Doc. 2015-03450 Filed 2-19-15; 8:45 am]

BILLING CODE 6560-50-P